DEPARTMENT OF TRANSPORTATION

Federal Highway Administration

Notice of Final Federal Agency Actions on the Route 624 Bridge Replacement Project in Virginia

Correction

In notice document 2015-17569, appearing on pages 42602 through 42603 in the issue of Friday, July 17, 2015, make the following correction:

On page 42602, in the DATES section, on the seventh line of that paragraph, “August 3, 2015” should read “December 14, 2015”.

[FR Doc. C1-2015-17569 Filed 7-27-15; 8:45 am]

BILLING CODE 1505-01-D